DEPARTMENT OF COMMERCE

National Oceanic and Atmospheric Administration

50 CFR Part 679

RIN 0648-BE24

Fisheries of the Exclusive Economic Zone Off Alaska; Establishing Transit Areas Through Walrus Protection Areas at Round Island and Cape Peirce, Northern Bristol Bay, Alaska; Amendment 107

AGENCY: National Marine Fisheries Service (NMFS), National Oceanic and Atmospheric Administration (NOAA), Commerce.

ACTION: Notice of availability of fishery management plan amendment; request for comments.

SUMMARY: The North Pacific Fishery Management Council (Council) has submitted Amendment 107 to the Fishery Management Plan for Groundfish of the Bering Sea and Aleutian Islands Management Area (BSAI FMP). Amendment 107, if approved, would establish seasonal transit areas for vessels designated on Federal Fisheries Permits (FFPs) through Walrus Protection Areas in northern Bristol Bay, AK. This action would allow vessels designated on FFPs to transit through Walrus Protection Areas in the U.S. Exclusive Economic Zone (EEZ) near Round Island and Cape Peirce from April 1 through August 15, annually. This action is necessary to restore the access of Federally-permitted vessels to transit through Walrus Protection Areas that was limited by regulations implementing Amendment 83 to the Fishery Management Plan for Groundfish of the Gulf of Alaska (GOA FMP), and to maintain adequate protection for walruses on Round Island and Cape Peirce. This action would maintain an existing prohibition on deploying fishing gear in Walrus Protection Areas by vessels designated on an FFP. This action is intended to promote the goals and objectives of the Magnuson-Stevens Fishery Conservation and Management Act, the BSAI FMP, Fishery Management Plan for Groundfish of the Bering Sea and Aleutian Islands Management Area (BSAI FMP), and other applicable law.

DATES: Comments on the amendment must be received on or before November 24, 2014.

ADDRESSES: You may submit comments on this document, identified by NOAA-NMFS-2014-0066, by any one of the following methods:

• Electronic Submissions: Submit all electronic public comments via the Federal eRulemaking Portal. Go to www.regulations.gov/#!docketDetail;D=NMFS-2014-0066, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields, if you wish to remain anonymous). Attachments to electronic comments will be accepted in Microsoft Word, Excel, or Adobe PDF file formats only.

Electronic copies of the Environmental Assessment/Regulatory Impact Review/Initial Regulatory Flexibility Analysis (Analysis) prepared for this action may be obtained from http://www.regulations.gov or from the Alaska Region Web site at http://alaskafisheries.noaa.gov.

FOR FURTHER INFORMATION CONTACT: Anne Marie Eich, 907-586-7172.

SUPPLEMENTARY INFORMATION: The Magnuson-Stevens Fishery Conservation and Management Act (Magnuson-Stevens Act) requires that each regional fishery management council submit any fishery management plan amendment it prepares to NMFS for review and approval, disapproval, or partial approval by the Secretary of Commerce. The Magnuson-Stevens Act also requires that NMFS, upon receiving a fishery management plan amendment, immediately publish a notice in the Federal Register announcing that the amendment is available for public review and comment. This notice announces that proposed Amendment 107 to the BSAI FMP is available for public review and comment.

NMFS manages the groundfish fisheries in the EEZ of the BSAI under the BSAI FMP. The Council prepared, and NMFS approved, the BSAI FMP under the authority of the Magnuson-Stevens Act. Amendment 107 would apply only to the management of the vessels transiting in the northern part of Bristol Bay, AK. This proposed action would apply to EEZ waters in statistical area 514 of the BSAI, as shown in Figure 1 to 50 CFR part 679. In this area of Bristol Bay, Federal waters occur at least 3 nm from shore.

The Council has recommended and NMFS has implemented a series of closure areas, known as Walrus Protection Areas, in Bristol Bay around important walrus haul-out sites to reduce potential disturbance to walrus from fishing activities (54 FR 50386, December 6, 1989; corrected 55 FR 1036, January 11, 1990; technically amended 56 FR 5775, February 13, 1991 and 57 FR 10430, March 26, 1992). These management measures apply in a portion of Federal waters in the EEZ (i.e., from 3 nm to 12 nm from shore). These closures were established from April 1 through September 30 to reduce disturbance to walrus haul-out sites during periods of peak walrus use (Section 1.2 of the Analysis).

If approved, Amendment 107 would establish transit areas through the Walrus Protection Area at Round Island and Cape Peirce, in northern Bristol Bay, AK. Amendment 107 would: (1) establish a transit area in the EEZ near Round Island open from April 1 through August 15, annually, north of a line from 58°47.90′ N, 160°21.91′ W to 58°32.94′ N, 159°35.45′ W; and (2) establish a transit area in the EEZ near Cape Peirce open from April 1 through August 15, annually, east of a line from 58°30.00′ N, 161°46.20′ W to 58°21.00′ N, 161°46.20′ W.

This action is necessary to restore the access to Federally-permitted vessels to transit through Walrus Protection Areas that was limited by regulations implementing Amendment 83 to the Fishery Management Plan for Groundfish of the Gulf of Alaska (GOA FMP) (76 FR 74670, December 1, 2011; corrected 76 FR 81872, December 29, 2011), and to maintain adequate protection for walruses on Round Island and Cape Peirce. This action would maintain an existing prohibition on deploying fishing gear in Walrus Protection Areas by vessels designated on an FFP.

Prior to 2012, vessel owners were able to easily surrender an FFP for a period of time to allow their vessel to transit through Walrus Protection Areas. Some vessel owners surrendered their FFPs during the spring and summer so that these vessels could transit through Walrus Protection Areas around Round Island and Cape Peirce when operating as a tender. A tender is a vessel that is used to transport unprocessed fish or shellfish received from another vessel to an associated processor (see definition at § 679.2). In northern Bristol Bay many vessels that are active in Federally-managed fisheries operate as tenders for vessels fishing in State-managed herring and salmon fisheries. These tenders receive catch in Togiak Bay, Kulukak Bay, and other bays in northern Bristol Bay and deliver that catch to processing plants in Dillingham and other communities in Bristol Bay. Prior to 2012, some vessel owners also surrendered their FFPs to allow a vessel to transit through Walrus Protection Areas to deliver processed groundfish from fishing grounds in the Bering Sea to delivery locations in northern Bristol Bay.

Without an FFP, vessels can transit through Walrus Protection Areas and avoid the additional time, operating expenses, increased exposure to weather, and navigational challenges when operating in State waters compared to vessels that are designated on an FFP and are prohibited from entering the Walrus Protection Areas. Section 1.3.2 of the Analysis describes the factors affecting vessels that are prohibited from transiting through Walrus Protection Areas. The following paragraphs summarize these factors.

On January 1, 2012, NMFS implemented Amendment 83 to GOA FMP (76 FR 74670, December 1, 2011; corrected 76 FR 81872, December 29, 2011). Regulations implementing Amendment 83 to GOA FMP (Amendment 83) limited the ability for vessel owners to easily surrender an FFP. An FFP is issued for 3-years under the FFP application process and is in effect from the effective date through the expiration date, unless it is revoked, suspended, surrendered (see regulations at § 679.4(b)(4)(i)). NMFS will not reissue a surrendered FFP with certain endorsements (see regulations at § 679.4(b)(4)(ii)); therefore, a vessel owner cannot surrender an FFP more than once in a 3-year period to transit the Walrus Protection Areas.

NMFS intends the regulations implementing Amendment 83 to allow the proper tracking and accounting of Federal fishery allocations. NMFS did not intend the regulations to specifically limit the ability of vessel owners to surrender FFPs to transit through Walrus Protection Areas when operating as tenders or delivering processed groundfish. However, the regulations implementing Amendment 83 require vessel owners who had historically surrendered their FFPs in order to transit through Walrus Protection Areas when operating as tenders or delivering processed groundfish to either surrender their FFPs and be prohibited from fishing in Federal waters for up to 3 years, or retain their FFPs and be prohibited from transiting through Walrus Protection Areas.

Vessel owners prefer to transit through the Walrus Protection Areas north of Round Island because transiting to the north and outside of Walrus Protection Areas requires vessels to transit through shallower waters in State waters. This transit can be more difficult to navigate and may create additional safety concerns. Transiting to the south of Round Island and outside of the Walrus Protection Areas requires vessels to transit around Round Island and through Hagemeister Strait, which adds considerable distance and time to each transit. The additional time increases the fuel costs required for transit and potentially exposes vessels to more adverse weather conditions for a longer period of time. Vessels delivering groundfish to floating processors in the Togiak Bay area also experience increased costs because of additional transit distances. Transit through Hagemeister Strait also puts vessels in close proximity (i.e., within 3 nm) to a walrus haulout on the southern tip of Hagemeister Island. This vessel traffic may disturb walrus using the haulout on Hagemeister Island. An alternative route that would allow vessels designated on FFPs to transit through a portion of the Walrus Protection Areas north of Round Island could reduce vessel transits through Hagemeister Strait and the potential for disturbance to walrus using the haulout on Hagemeister Island.

Currently, vessels can transit through State waters (from 0 to 3 nm from the shore) near Cape Peirce while tendering herring or salmon from fishing locations near Cape Peirce or when delivering groundfish in northern Bristol Bay. As noted in Section 3.2.7.3 of the Analysis, the U.S. Fish and Wildlife Service has not monitored walrus in the Cape Peirce area for disturbance; therefore the incidence of disturbance at Cape Peirce is not known. However, vessels transiting through State waters (i.e., within 3 nm of Cape Peirce) may be more likely to disturb walruses. An alternative route that would allow vessels designated on FFPs to transit through a portion of the Walrus Protection Areas east of Cape Peirce could reduce vessel transits through State waters near Cape Peirce and the potential for disturbance to walruses using the haulout at Cape Peirce.

NMFS is soliciting public comments on proposed Amendment 107 through the end of the comment period (see DATES). NMFS intends to publish in the Federal Register and seek public comment on a proposed rule that would implement Amendment 107 following NMFS' evaluation of the proposed rule under the Magnuson-Stevens Act. Public comments on the proposed rule must be received by the end of the comment period on Amendment 107 to be considered in the approval/disapproval decision on Amendment 107. NMFS will consider all comments received by the end of the comment period on Amendment 107, whether specifically directed to the FMP amendment or the proposed rule, in the FMP amendment approval/disapproval decision. Comments received after that date may not be considered in the approval/disapproval decision on Amendment 107. To be certain of consideration, comments must be received, not just postmarked or otherwise transmitted, by the last day of the comment period.

Authority: 16 U.S.C. 1801 et seq.

Dated: September 19, 2014
Alan D. Risenhoover,
Director, Office of Sustainable Fisheries, National Marine Fisheries Service.

[FR Doc. 2014-22688 Filed 9-23-14; 8:45 am]

BILLING CODE 3510-22-P